DEPARTMENT OF ENERGY

Federal Energy Regulatory Commission

Combined Notice of Filings

Take notice that the Commission has received the following Natural Gas Pipeline Rate and Refund Report filings:

Filings Instituting Proceedings

Docket Number: PR20-4-000.

Applicants: Acacia Natural Gas, L.L.C.

Description: Tariff filing per 284.123(b),(e)+(g): Amended Statement of Operating Conditions to be effective 10/30/2019.

Filed Date: 10/30/19.

Accession Number: 201910305127.

Comments Due: 5 p.m. ET 11/20/19.

284.123(g) Protests Due: 5 p.m. ET 12/30/19.

Docket Number: PR20-5-000.

Applicants: Midcoast Pipelines (North Texas) L.P.

Description: Tariff filing per 284.123(b)(2)+(g): Petition for Rate Approval under Optional Notice Procedures to be effective 11/1/2019.

Filed Date: 11/1/19.

Accession Number: 201911015147.

Comments Due: 5 p.m. ET 11/22/19.

284.123(g) Protests Due: 5 p.m. ET 12/31/19.

Docket Numbers: RP20-133-000.

Applicants: Algonquin Gas Transmission, LLC.

Description: Compliance filing Atlantic Bridge—Permanent Release NRA Filing to be effective 11/1/2019.

Filed Date: 10/31/19.

Accession Number: 20191031-5000.

Comments Due: 5 p.m. ET 11/12/19.

Docket Numbers: RP20-134-000.

Applicants: Texas Eastern Transmission, LP.

Description: § 4(d) Rate Filing: Negotiated Rates—11-1-2019 Consolidated Edison 910950 Releases to be effective 11/1/2019.

Filed Date: 10/31/19.

Accession Number: 20191031-5035.

Comments Due: 5 p.m. ET 11/12/19.

Docket Numbers: RP20-135-000.

Applicants: Algonquin Gas Transmission, LLC.

Description: § 4(d) Rate Filing: Negotiated Rates—Keyspan 510369 releases eff 11-1-19 to be effective 11/1/2019.

Filed Date: 10/31/19.

Accession Number: 20191031-5038.

Comments Due: 5 p.m. ET 11/12/19.

Docket Numbers: RP20-136-000.

Applicants: Rockies Express Pipeline LLC.

Description: § 4(d) Rate Filing: Neg Rate 2019-10-31 EQT to be effective 11/1/2019.

Filed Date: 10/31/19.

Accession Number: 20191031-5045.

Comments Due: 5 p.m. ET 11/12/19.

Docket Numbers: RP20-137-000.

Applicants: Transcontinental Gas Pipe Line Company, LLC.

Description: § 4(d) Rate Filing: Rate Schedules LSS & SS-2 Tracker eff 11/1/2019—National Fuel to be effective 11/1/2019.

Filed Date: 10/31/19.

Accession Number: 20191031-5051.

Comments Due: 5 p.m. ET 11/12/19.

Docket Numbers: RP20-138-000.

Applicants: Natural Gas Pipeline Company of America.

Description: § 4(d) Rate Filing: Negotiated Rate Agreement Filing—Freepoint Commodities LLC to be effective 11/1/2019.

Filed Date: 10/31/19.

Accession Number: 20191031-5062.

Comments Due: 5 p.m. ET 11/12/19.

Docket Numbers: RP20-139-000.

Applicants: Natural Gas Pipeline Company of America.

Description: § 4(d) Rate Filing: Negotiated Rate Agreement Filing—Shell Energy North to be effective 11/1/2019.

Filed Date: 10/31/19.

Accession Number: 20191031-5064.

Comments Due: 5 p.m. ET 11/12/19.

Docket Numbers: RP20-140-000.

Applicants: Ruby Pipeline, L.L.C.

Description: § 4(d) Rate Filing: Fuel L&U and EPC Update Filing to be effective 12/1/2019.

Filed Date: 10/31/19.

Accession Number: 20191031-5065.

Comments Due: 5 p.m. ET 11/12/19.

Docket Numbers: RP20-141-000.

Applicants: Algonquin Gas Transmission, LLC.

Description: § 4(d) Rate Filing: Negotiated Rates—ConEd 510371 releases eff 11-1-19 to be effective 11/1/2019.

Filed Date: 10/31/19.

Accession Number: 20191031-5067.

Comments Due: 5 p.m. ET 11/12/19.

Docket Numbers: RP20-142-000.

Applicants: Wyoming Interstate Company, L.L.C.

Description: § 4(d) Rate Filing: Fuel and L&U Reimbursement Percentage Update to be effective 12/1/2019.

Filed Date: 10/31/19.

Accession Number: 20191031-5068.

Comments Due: 5 p.m. ET 11/12/19.

Docket Numbers: RP20-143-000.

Applicants: ETC Tiger Pipeline, LLC.

Description: § 4(d) Rate Filing: Fuel Filing on 10-31-19 to be effective 12/1/2019.

Filed Date: 10/31/19.

Accession Number: 20191031-5071.

Comments Due: 5 p.m. ET 11/12/19.

Docket Numbers: RP20-144-000.

Applicants: Fayetteville Express Pipeline LLC.

Description: § 4(d) Rate Filing: Fuel Filing on 10-31-19 to be effective 12/1/2019.

Filed Date: 10/31/19.

Accession Number: 20191031-5072.

Comments Due: 5 p.m. ET 11/12/19.

Docket Numbers: RP20-145-000.

Applicants: Transcontinental Gas Pipe Line Company, LLC.

Description: § 4(d) Rate Filing: Rate Schedules GSS & LSS Tracker eff 11/1/2019—Dominion to be effective 11/1/2019.

Filed Date: 10/31/19.

Accession Number: 20191031-5079.

Comments Due: 5 p.m. ET 11/12/19.

Docket Numbers: RP20-146-000.

Applicants: Algonquin Gas Transmission, LLC.

Description: § 4(d) Rate Filing: Negotiated Rates—BUG 799989 releases eff 11-1-19 to be effective 11/1/2019.

Filed Date: 10/31/19.

Accession Number: 20191031-5090.

Comments Due: 5 p.m. ET 11/12/19.

Docket Numbers: RP20-147-000.

Applicants: Algonquin Gas Transmission, LLC.

Description: § 4(d) Rate Filing: Negotiated Rate—CBPX to Direct Energy 800499 to be effective 11/1/2019.

Filed Date: 10/31/19.

Accession Number: 20191031-5096.

Comments Due: 5 p.m. ET 11/12/19.

Docket Numbers: RP20-148-000.

Applicants: Sierrita Gas Pipeline LLC.

Description: § 4(d) Rate Filing: Fuel and L&U Filing to be effective 12/31/9998.

Filed Date: 10/31/19.

Accession Number: 20191031-5105.

Comments Due: 5 p.m. ET 11/12/19.

Docket Numbers: RP20-149-000.

Applicants: Texas Gas Transmission, LLC.

Description: § 4(d) Rate Filing: Cap Rel Neg Rate Agmt (JERA 37702 to EDF 38315) to be effective 11/1/2019.

Filed Date: 10/31/19.

Accession Number: 20191031-5106.

Comments Due: 5 p.m. ET 11/12/19.

Docket Numbers: RP20-150-000.

Applicants: Texas Gas Transmission, LLC.

Description: § 4(d) Rate Filing: Cap Rel Neg Rate Agmts (Gulfport releases eff 11-1-2019) to be effective 11/1/2019.

Filed Date: 10/31/19.

Accession Number: 20191031-5107.

Comments Due: 5 p.m. ET 11/12/19.

Docket Numbers: RP20-151-000.

Applicants: Texas Gas Transmission, LLC.

Description: § 4(d) Rate Filing: Cap Rel Neg Rate Agmt (Kaiser 35448 to Tenaska 38326) to be effective 11/1/2019.

Filed Date: 10/31/19.

Accession Number: 20191031-5115.

Comments Due: 5 p.m. ET 11/12/19.

Docket Numbers: RP20-152-000.

Applicants: El Paso Natural Gas Company, L.L.C.

Description: § 4(d) Rate Filing: Non-Conforming Negotiated Rate Agreement Update (SoCal Nov Mar) to be effective 11/1/2019.

Filed Date: 10/31/19.

Accession Number: 20191031-5122.

Comments Due: 5 p.m. ET 11/12/19.

Docket Numbers: RP20-153-000.

Applicants: WBI Energy Transmission, Inc.

Description: § 4(d) Rate Filing: 2019 Non-Conforming Service Agreements with Phillips & MDU to be effective 11/21/2019.

Filed Date: 10/31/19.

Accession Number: 20191031-5128.

Comments Due: 5 p.m. ET 11/12/19.

Docket Numbers: RP20-154-000.

Applicants: Algonquin Gas Transmission, LLC.

Description: § 4(d) Rate Filing: Negotiated Rate—PSEG contract 511047 to be effective 11/1/2019.

Filed Date: 10/31/19.

Accession Number: 20191031-5132.

Comments Due: 5 p.m. ET 11/12/19.

Docket Numbers: RP20-155-000.

Applicants: Gulf South Pipeline Company, LP.

Description: § 4(d) Rate Filing: Cap Rel Neg Rate Agmt (Constellation 51655 to Exelon 51690) to be effective 11/1/2019.

Filed Date: 10/31/19.

Accession Number: 20191031-5137.

Comments Due: 5 p.m. ET 11/12/19.

Docket Numbers: RP20-156-000.

Applicants: Gulf South Pipeline Company, LP.

Description: § 4(d) Rate Filing: Cap Rel Neg Rate Agmt (Trans Louisiana 51695 to Centerpoint 51707) to be effective 11/1/2019.

Filed Date: 10/31/19.

Accession Number: 20191031-5140.

Comments Due: 5 p.m. ET 11/12/19.

Docket Numbers: RP20-157-000.

Applicants: Gulf South Pipeline Company, LP.

Description: § 4(d) Rate Filing: Cap Rel Neg Rate Agmts (Aethon 50488, 37657 to Scona 51724, 51725) to be effective 11/1/2019.

Filed Date: 10/31/19.

Accession Number: 20191031-5141.

Comments Due: 5 p.m. ET 11/12/19.

Docket Numbers: RP20-158-000.

Applicants: El Paso Natural Gas Company, L.L.C.

Description: § 4(d) Rate Filing: Negotiated Rate Agreement Update Filing (Conoco Nov 19) to be effective 11/1/2019.

Filed Date: 10/31/19.

Accession Number: 20191031-5143.

Comments Due: 5 p.m. ET 11/12/19.

Docket Numbers: RP20-159-000.

Applicants: Transcontinental Gas Pipe Line Company, LLC.

Description: § 4(d) Rate Filing: Negotiated Rates—Cherokee AGL—Replacement Shippers—Nov 2019 to be effective 11/1/2019.

Filed Date: 10/31/19.

Accession Number: 20191031-5169.

Comments Due: 5 p.m. ET 11/12/19.

Docket Numbers: RP20-160-000.

Applicants: Texas Eastern Transmission, LP.

Description: § 4(d) Rate Filing: PCB TETLP 2019 FILING to be effective 12/1/2019.

Filed Date: 10/31/19.

Accession Number: 20191031-5172.

Comments Due: 5 p.m. ET 11/12/19.

Docket Numbers: RP20-161-000.

Applicants: LA Storage, LLC.

Description: § 4(d) Rate Filing: Filing of Negotiated Rate, Conforming IW Agreement (Total) to be effective 11/1/2019.

Filed Date: 10/31/19.

Accession Number: 20191031-5204.

Comments Due: 5 p.m. ET 11/12/19.

Docket Numbers: RP20-162-000.

Applicants: MarkWest Pioneer, L.L.C.

Description: § 4(d) Rate Filing: Amendment to Nonconforming Negotiated Rate Service Agreement to be effective 11/1/2019.

Filed Date: 10/31/19.

Accession Number: 20191031-5206.

Comments Due: 5 p.m. ET 11/12/19.

Docket Numbers: RP20-163-000.

Applicants: Transcontinental Gas Pipe Line Company, LLC.

Description: § 4(d) Rate Filing: Initial Rate Filing—Gateway Expansion Project to be effective 12/1/2019.

Filed Date: 10/31/19.

Accession Number: 20191031-5207.

Comments Due: 5 p.m. ET 11/12/19.

Docket Numbers: RP20-164-000.

Applicants: Transcontinental Gas Pipe Line Company, LLC.

Description: § 4(d) Rate Filing: Non-Conforming—NESL_Sequent to be effective 11/1/2019.

Filed Date: 10/31/19.

Accession Number: 20191031-5217.

Comments Due: 5 p.m. ET 11/12/19.

Docket Numbers: RP20-165-000.

Applicants: NEXUS Gas Transmission, LLC.

Description: § 4(d) Rate Filing: Negotiated Rate—DTE Electric to Tenaska 960613 to be effective 11/1/2019.

Filed Date: 10/31/19.

Accession Number: 20191031-5221.

Comments Due: 5 p.m. ET 11/12/19.

Docket Numbers: RP20-166-000.

Applicants: Equitrans, L.P.

Description: Compliance filing Operational Purchases and Sales Report for 2019.

Filed Date: 10/31/19.

Accession Number: 20191031-5223.

Comments Due: 5 p.m. ET 11/12/19.

Docket Numbers: RP20-167-000.

Applicants: Algonquin Gas Transmission, LLC.

Description: § 4(d) Rate Filing: AGT FRQ 2019 Filing to be effective 12/1/2019.

Filed Date: 10/31/19.

Accession Number: 20191031-5224.

Comments Due: 5 p.m. ET 11/12/19.

Docket Numbers: RP20-168-000.

Applicants: Transcontinental Gas Pipe Line Company, LLC.

Description: § 4(d) Rate Filing: Non-Conforming—Leidy Southeast_PSNC Superseding_2 to be effective 12/1/2019.

Filed Date: 10/31/19.

Accession Number: 20191031-5227.

Comments Due: 5 p.m. ET 11/12/19.

Docket Numbers: RP20-169-000.

Applicants: Trunkline Gas Company, LLC.

Description: § 4(d) Rate Filing: Negotiated Rate Filing—15 to be effective 11/1/2019.

Filed Date: 10/31/19.

Accession Number: 20191031-5251.

Comments Due: 5 p.m. ET 11/12/19.

Docket Numbers: RP20-170-000.

Applicants: Texas Eastern Transmission, LP.

Description: § 4(d) Rate Filing: TETLP ASA DEC 2019 FILING to be effective 12/1/2019.

Filed Date: 10/31/19.

Accession Number: 20191031-5253.

Comments Due: 5 p.m. ET 11/12/19.

Docket Numbers: RP20-171-000.

Applicants: El Paso Natural Gas Company, L.L.C.

Description: § 4(d) Rate Filing: Negotiated Rate Agreements Filing (EOG) to be effective 12/1/2019.

Filed Date: 10/31/19.

Accession Number: 20191031-5257.

Comments Due: 5 p.m. ET 11/12/19.

Docket Numbers: RP20-172-000.

Applicants: Northern Natural Gas Company.

Description: § 4(d) Rate Filing: 20191031 Negotiated Rate to be effective 11/1/2019.

Filed Date: 10/31/19.

Accession Number: 20191031-5261.

Comments Due: 5 p.m. ET 11/12/19.

Docket Numbers: RP20-173-000.

Applicants: NEXUS Gas Transmission, LLC.

Description: § 4(d) Rate Filing: Negotiated Rates—EAP Ohio 860161 Nov 1 Releases to be effective 11/1/2019.

Filed Date: 10/31/19.

Accession Number: 20191031-5264.

Comments Due: 5 p.m. ET 11/12/19.

Docket Numbers: RP20-174-000.

Applicants: El Paso Natural Gas Company, L.L.C.

Description: § 4(d) Rate Filing: Non-Conforming Agreements Filing (Saavi_Sempra) to be effective 11/1/2019.

Filed Date: 10/31/19.

Accession Number: 20191031-5266.

Comments Due: 5 p.m. ET 11/12/19.

Docket Numbers: RP20-175-000.

Applicants: Rover Pipeline LLC.

Description: § 4(d) Rate Filing: Summary of Negotiated Rate Capacity Release Agreements on 11-1-19 to be effective 11/1/2019.

Filed Date: 11/1/19.

Accession Number: 20191101-5001.

Comments Due: 5 p.m. ET 11/13/19.

Docket Numbers: RP20-176-000.

Applicants: Enable Gas Transmission, LLC.

Description: § 4(d) Rate Filing: Negotiated Rate Filing—November 1 2019 Encana 1011022 to be effective 11/1/2019.

Filed Date: 11/1/19.

Accession Number: 20191101-5051.

Comments Due: 5 p.m. ET 11/13/19.

Docket Numbers: RP20-177-000.

Applicants: Columbia Gulf Transmission, LLC.

Description: Pre-Arranged/Pre-Agreed (Stipulation and Agreement of Settlement) Filing of Columbia Gulf Transmission, LLC under RP20-177.

Filed Date: 11/1/19.

Accession Number: 20191101-5056.

Comments Due: 5 p.m. ET 11/13/19.

Docket Numbers: RP20-178-000.

Applicants: ANR Pipeline Company.

Description: § 4(d) Rate Filing: Conexus Negotiated Rate Agreement to be effective 11/1/2019.

Filed Date: 11/1/19.

Accession Number: 20191101-5060.

Comments Due: 5 p.m. ET 11/13/19.

Docket Numbers: RP20-179-000.

Applicants: Texas Eastern Transmission, LP.

Description: § 4(d) Rate Filing: Negotiated Rate—ConEd 910950 release to Sunsea 8960796 to be effective 11/1/2019.

Filed Date: 11/1/19.

Accession Number: 20191101-5061.

Comments Due: 5 p.m. ET 11/13/19.

Docket Numbers: RP20-180-000.

Applicants: Columbia Gas Transmission, LLC.

Description: § 4(d) Rate Filing: TCO UGI NC Agreements to be effective 12/1/2019.

Filed Date: 11/1/19.

Accession Number: 20191101-5062.

Comments Due: 5 p.m. ET 11/13/19.

Docket Numbers: RP20-181-000.

Applicants: Destin Pipeline Company, L.L.C.

Description: Compliance filing Destin Pipeline Company Annual Fuel Retention Adjustment.

Filed Date: 11/1/19.

Accession Number: 20191101-5063.

Comments Due: 5 p.m. ET 11/13/19.

Docket Numbers: RP20-182-000.

Applicants: Algonquin Gas Transmission, LLC.

Description: § 4(d) Rate Filing: Negotiated Rates—Boston Gas 511109 Release to be effective 11/1/2019.

Filed Date: 11/1/19.

Accession Number: 20191101-5091.

Comments Due: 5 p.m. ET 11/13/19.

Docket Numbers: RP20-183-000.

Applicants: Gulf South Pipeline Company, LP.

Description: § 4(d) Rate Filing: Cap Rel Neg Rate Agmt (FPL 41618, 41619 amendments and to Spire 51627) to be effective 11/1/2019.

Filed Date: 11/1/19.

Accession Number: 20191101-5095.

Comments Due: 5 p.m. ET 11/13/19.

Docket Numbers: RP20-184-000.

Applicants: Gulf South Pipeline Company, LP.

Description: § 4(d) Rate Filing: Cap Rel Neg Rate Agmt (BP 51411 to BP 51709, 51738) to be effective 11/1/2019.

Filed Date: 11/1/19.

Accession Number: 20191101-5096.

Comments Due: 5 p.m. ET 11/13/19.

Docket Numbers: RP20-185-000.

Applicants: Gulf South Pipeline Company, LP.

Description: § 4(d) Rate Filing: Cap Rel Neg Rate Agmts (Osaka releases eff 11-1-2019) to be effective 11/1/2019.

Filed Date: 11/1/19.

Accession Number: 20191101-5097.

Comments Due: 5 p.m. ET 11/13/19.

Docket Numbers: RP20-186-000.

Applicants: Millennium Pipeline Company, LLC.

Description: § 4(d) Rate Filing: Non-Conforming & Negotiated Rate Svc Amds—SWN to be effective 11/1/2019.

Filed Date: 11/1/19.

Accession Number: 20191101-5123.

Comments Due: 5 p.m. ET 11/13/19.

Docket Numbers: RP20-187-000.

Applicants: Columbia Gas Transmission, LLC.

Description: § 4(d) Rate Filing: OTRA Winter 2019 to be effective 12/1/2019.

Filed Date: 11/1/19.

Accession Number: 20191101-5138.

Comments Due: 5 p.m. ET 11/13/19.

Docket Numbers: RP20-188-000.

Applicants: Gulf South Pipeline Company, LP.

Description: § 4(d) Rate Filing: 2019 Fuel Tracker Filing to be effective 4/1/2020.

Filed Date: 11/1/19.

Accession Number: 20191101-5142.

Comments Due: 5 p.m. ET 11/13/19.

Docket Numbers: RP20-189-000.

Applicants: Gulf Crossing Pipeline Company LLC.

Description: § 4(d) Rate Filing: 2019 Fuel Tracker Filing to be effective 4/1/2020.

Filed Date: 11/1/19.

Accession Number: 20191101-5143.

Comments Due: 5 p.m. ET 11/13/19.

Docket Numbers: RP20-190-000.

Applicants: Columbia Gulf Transmission, LLC.

Description: § 4(d) Rate Filing: LAXP Interim Negotiated Rate Agreement Filing to be effective 11/1/2019.

Filed Date: 11/1/19.

Accession Number: 20191101-5144.

Comments Due: 5 p.m. ET 11/13/19.

Docket Numbers: RP20-191-000.

Applicants: Portland Natural Gas Transmission System.

Description: § 4(d) Rate Filing: PNGTS Westbrook Agreements Filing to be effective 11/1/2019.

Filed Date: 11/1/19.

Accession Number: 20191101-5146.

Comments Due: 5 p.m. ET 11/13/19.

Docket Numbers: RP20-192-000.

Applicants: Natural Gas Pipeline Company of America.

Description: § 4(d) Rate Filing: Amendments to Negotiated Rate Filings-Macquarie Energy to be effective 11/1/2019.

Filed Date: 11/1/19.

Accession Number: 20191101-5148.

Comments Due: 5 p.m. ET 11/13/19.

Docket Numbers: RP20-193-000.

Applicants: Equitrans, L.P.

Description: § 4(d) Rate Filing: Negotiated Capacity Release Agreements—11/1/2019 to be effective 11/1/2019.

Filed Date: 11/1/19.

Accession Number: 20191101-5149.

Comments Due: 5 p.m. ET 11/13/19.

Docket Numbers: RP20-194-000.

Applicants: Alliance Pipeline L.P.

Description: § 4(d) Rate Filing: Contract Adjustments for 11-1-2019 to be effective 11/1/2019.

Filed Date: 11/1/19.

Accession Number: 20191101-5160.

Comments Due: 5 p.m. ET 11/13/19.

Docket Numbers: RP20-195-000.

Applicants: Texas Eastern Transmission, LP.

Description: § 4(d) Rate Filing: Equinor Release to ConEd—NRAs and NC Agreements to be effective 11/1/2019.

Filed Date: 11/1/19.

Accession Number: 20191101-5174.

Comments Due: 5 p.m. ET 11/13/19.

Docket Numbers: RP20-196-000.

Applicants: Enable Mississippi River Transmission, LLC.

Description: § 4(d) Rate Filing: Negotiated Rate Filing—Ameren Missouri RP18-923 Settlement to be effective 1/1/2019.

Filed Date: 11/1/19.

Accession Number: 20191101-5226.

Comments Due: 5 p.m. ET 11/13/19.

Docket Numbers: RP20-197-000.

Applicants: Enable Mississippi River Transmission, LLC.

Description: § 4(d) Rate Filing: Negotiated Rate Filing—CERC RP18-923 Settlement to be effective 1/1/2019.

Filed Date: 11/1/19.

Accession Number: 20191101-5231.

Comments Due: 5 p.m. ET 11/13/19.

Docket Numbers: RP20-198-000.

Applicants: Rockies Express Pipeline LLC.

Description: § 4(d) Rate Filing: Neg Rate 2019-11-1 Encana to be effective 11/1/2019.

Filed Date: 11/1/19.

Accession Number: 20191101-5257.

Comments Due: 5 p.m. ET 11/13/19.

Docket Numbers: RP20-199-000.

Applicants: Tennessee Gas Pipeline Company, L.L.C.

Description: § 4(d) Rate Filing: Volume No. 2—NJR Energy Services Company SP 353478, 353479 and 353480 to be effective 11/1/2019.

Filed Date: 11/1/19.

Accession Number: 20191101-5284.

Comments Due: 5 p.m. ET 11/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2019.
Nathaniel J. Davis, Sr.,
Deputy Secretary.

[FR Doc. 2019-24423 Filed 11-7-19; 8:45 am]

BILLING CODE 6717-01-P